POSTAL SERVICE

39 CFR Part 230

Office of Inspector General; Arrest and Investigative Powers of Criminal Investigators

AGENCY: Postal Service.

ACTION: Final rule.

SUMMARY: This rule describes the procedures for service of administrative subpoenas by criminal investigators employed by the Office of Inspector General.

EFFECTIVE DATE: March 10, 2006.

FOR FURTHER INFORMATION CONTACT: Gladis Griffith, Deputy General Counsel, Office of Inspector General, (703) 248-4683.

SUPPLEMENTARY INFORMATION: The Postal Service has previously published rules, at 67 FR 16025, that describe the functions that may be performed by criminal investigators employed by the Office of Inspector General. This rule adds the procedures for service of administrative subpoenas by such personnel.

List of Subjects in 39 CFR Part 230

Administrative practice and procedure.

For the reasons stated, the Postal Service amends 39 CFR as follows:

PART 230—OFFICE OF INSPECTOR GENERAL

1. The authority citation for part 230 continues to read as follows:

Authority: 5 U.S.C. App. 3; 39 U.S.C. 401(2) and 1001.

§ 230.4 [Amended]

2. Section 230.4 is amended by designating the existing text as paragraph (a), and adding the following new paragraph (b):

(b) Administrative subpoenas may be served by delivering a copy to a person or by mailing a copy to the person's last known address. For the purposes of this provision, delivery of a copy includes handing it to the party or leaving it at the party's office or residence with a person of suitable age and discretion employed or residing therein. Service by mail is complete upon mailing.

Stanley F. Mires,
Chief Counsel, Legislative.

[FR Doc. 06-2260 Filed 3-9-06; 8:45 am]

BILLING CODE 7710-12-P